DEPARTMENT OF COMMERCE

International Trade Administration

[A-821-801]

Solid Urea From the Russian Federation: Rescission of Antidumping Duty Administrative Review; 2015-2016

AGENCY: Enforcement and Compliance, International Trade Administration, Department of Commerce.

SUMMARY: The Department of Commerce (the Department) is rescinding the administrative review of the antidumping duty order on solid urea from the Russian Federation for the period of July 1, 2015 through June 30, 2016.

DATES: Effective December 30, 2016.

FOR FURTHER INFORMATION CONTACT: Brian Smith or Denisa Ursu, Enforcement and Compliance, International Trade Administration, U.S. Department of Commerce, 1401 Constitution Avenue NW., Washington, DC 20230; telephone: (202) 482-1766 or (202) 482-2285, respectively.

SUPPLEMENTARY INFORMATION:

Background

On July 5, 2016, the Department published in the Federal Register a notice of “Opportunity to Request Administrative Review” of the antidumping duty order on solid urea from the Russian Federation for the period of July 1, 2015 through June 30, 2016.¹ On July 29 2016, in accordance with section 751(a) of the Tariff Act of 1930, as amended (the Act), and 19 CFR 351.213(b), the Department received a timely request from the petitioners, the Ad Hoc Committee of Domestic Nitrogen Producers and its individual members, CF Industries, Inc. and PCS Nitrogen Fertilizer L.P., to conduct an administrative review of the antidumping duty order on solid urea from the Russian Federation manufactured or exported by MCC EuroChem, or its urea production subsidiaries OJSC Nevinnomysskiy Azot and OJSC NAKAzot (MCC EuroChem), and Joint Stock Company PhosAgro-Cherepovets.²

¹ See Antidumping or Countervailing Duty Order, Finding, or Suspended Investigation; Opportunity to Request Administrative Review, 81 FR 43584 (July 5, 2016).

² See Petitioner's letter, “Solid Urea from the Russian Federation; Request for Administrative Review,” dated July 29, 2016.

On September 12, 2016, the Department published in the Federal Register a notice of initiation of an administrative review of the antidumping duty order.³ This administrative review covers MCC EuroChem and Joint Stock Company PhosAgro-Cherepovets during the period July 1, 2015 through June 30, 2016. On November 21, 2016, the petitioners timely withdrew their request for an administrative review for both MCC EuroChem and Joint Stock Company PhosAgro-Cherepovets.⁴

³ See Initiation of Antidumping and Countervailing Duty Administrative Reviews, 81 FR 62720 (September 12, 2016).

⁴ See Letter from Counsel to the Ad Hoc Committee of Domestic Nitrogen Producers dated November 21, 2016.

Rescission of Review

Pursuant to 19 CFR 351.213(d)(1), the Department will rescind an administrative review, if the party that requested the review withdraws its request within 90 days of the date of publication of notice of initiation of the requested review. The petitioner withdrew its review request before the 90-day deadline, and no other party requested an administrative review of the antidumping duty order. Therefore, in response to the timely withdrawal of the review request, the Department is rescinding in its entirety the administrative review of the antidumping duty order on solid urea from the Russian Federation for the review period July 1, 2015 through June 30, 2016.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers whose entries will be liquidated as a result of this rescission notice, of their responsibility under 19 CFR 351.402(f)(2) to file a certificate regarding the reimbursement of antidumping duties and/or countervailing duties prior to liquidation of the relevant entries during this review period. Failure to comply with this requirement may result in the presumption that reimbursement of antidumping duties and/or countervailing duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: December 23, 2016.
Paul Piquado,
Assistant Secretary for Enforcement and Compliance.

[FR Doc. 2016-31718 Filed 12-29-16; 8:45 am]

BILLING CODE 3510-DS-P